DEPARTMENT OF THE INTERIOR

National Park Service

Lake McDonald/Park Headquarters Wastewater Treatment System Rehabilitation Final Environmental Impact Statement, Glacier National Park, MT

AGENCY: National Park Service, Department of the Interior.

ACTION: Availability of the Lake McDonald/Park Headquarters Wastewater Treatment System Rehabilitation Final Environmental Impact Statement.

SUMMARY: Pursuant to section 102 (2) C. of the National Environmental Policy Act of 1969, the National Park Service announces the availability of a final Environmental Impact Statement on the Lake McDonald/Park Headquarters Wastewater Treatment System Rehabilitation for Glacier National Park, Montana.

DATES: The Draft EIS was on public review from January 31, 2000 through March 31, 2000. Responses to public comment are addressed in the Final EIS. A 30-day no-action period will follow the Environmental Protection Agency's Notice of Availability of the Final EIS.

ADDRESSES: Copies of the Final EIS are available from the Superintendent, Glacier National Park, PO Box 128, West Glacier, Montana 59936. It is also available on the Internet at www.nps.gov/glac. Public reading copies of the Final EIS will be available for review at the following locations:

Office of the Superintendent, Glacier National Park, West Glacier, MT 59936, Telephone: (406) 888-7901

Glacier National Park, Hudson Bay District Office, St. Mary, MT 59417

Planning and Environmental Quality, Intermountain Support Office—Denver, National Park Service, P.O. Box 25287, Denver, CO 80225-0287, Telephone: (303) 969-2851 or (303) 969-2377

Office of Public Affairs, National Park Service, Department of Interior, 18th and C Streets NW, Washington D.C. 20240, Telephone: (202) 208-6843.

SUPPLEMENTARY INFORMATION: The Final EIS analyzes five alternatives to address the rehabilitation of the wastewater treatment system that currently serves the west side of Glacier National Park. The service area for the existing wastewater treatment plant includes park headquarters and residences, campgrounds, Lake McDonald Lodge, and concession businesses and employee housing. The existing wastewater treatment plant is no longer meeting its original treatment objective or operating at design capacity. The preferred alternative (alternative 3) is to construct an advanced wastewater treatment plant with an exfiltration gallery land discharge site. This alternative would provide the greatest level of treatment and the highest water quality of the alternatives considered. Minimal new site disturbance would be necessary to implement the preferred alternative. Based on public concerns, the discharge method for the treated effluent was selected that best protected the environment. Alternative 1A includes construction of an additional storage lagoon and anew spray field to discharge treated effluent. This would require clearing 6.5 hectares of undisturbed land and the existing spray field, located in the floodplain, would continue to be used. Alternative 1B includes construction of two new storage lagoons and an additional aerated lagoon (3.6 hectares). The existing spray field would continue to be used. Alternative 2 includes construction of an advanced wastewater treatment plant and a series of three rapid infiltration basins (3.6 hectares) to discharge treated effluent to the groundwater. The existing spray field would no longer be used. The No Action alternative (alternative 4) would continue operation of the existing wastewater treatment system and spray field. Occasional raw sewage spills are possible when storage capacity is exceeded and the spray field cannot be operated because of wet conditions.

The Final EIS in particular evaluates the environmental consequences of the preferred alternative and the other alternatives on wildlife, vegetation, threatened and endangered species, water quality and park and concession operations.

FOR FURTHER INFORMATION CONTACT: Contact Superintendent, Glacier National Park at the above address and telephone number.

Dated: August 15, 2000.
William Ladd,
Director, Intermountain Region, National Park Service.

[FR Doc. 00-21838 Filed 8-25-00; 8:45 am]

BILLING CODE 4310-70-P